DEPARTMENT OF AGRICULTURE

Submission for OMB Review; Comment Request

November 9, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Request for Direct Loan Assistance and Request for Direct Loan Assistance (Youth Loans).

OMB Control Number: 0560-0167.

Summary of Collection: Section 302 (7 U.S.C. 1922) of the Consolidated Farm and Rural Development Act (CONACT) provides that “the Secretary is authorized to make and insure loans under this title to farmers and ranchers.” The Farm Service Agency (FSA) has issued regulations through the Federal Register process to implement the making and servicing of direct loans in chapters VII and XVIII of the Code of Federal Regulations. These regulations establish the information collection necessary for FSA to make and service direct loans. The loans include Operating, Farm Ownership, Soil and Water, Softwood Timber Production, Emergency, Economic Emergency, Economic Opportunity, Recreation, and Rural Housing loans for farm service buildings. FSA will collect information using forms FSA 410-1, Request for Direct Loan Assistance and FSA 2011, Request for Direct Loan Assistance (Youth Loans).

Need and Use of the Information: FSA will collect information to determine if the applicant/borrower meets the eligibility requirements established in the CONACT. FSA will also collect the following information: Name, address, telephone number; social security number; type of farming operation; information relating to the applicant's credit history (excluded on FSA 2011); the source and amount of nonfarm income; and a financial statement. If the information were not collected FAS would be forced to use outdated financial information, which would result in much higher losses to the government.

Description of Respondents: Farm; Federal Government; Business or other-for-profit; Individuals or households.

Number of Respondents: 36,469.

Frequency of Responses: Reporting: Other (on application).

Total Burden Hours: 59,343.

Ruth Brown,
Departmental Information Collection Clearance Officer.

[FR Doc. 05-22660 Filed 11-15-05; 8:45 am]

BILLING CODE 3410-05-P